DEPARTMENT OF STATE

[Public Notice 6175]

U.S. National Commission for UNESCO Notice of Open Advisory Committee Teleconference Meeting

SUMMARY: The U.S. National Commission for UNESCO will meet via telephone conference on Wednesday, April 23, 2008, from 11 a.m. until 12 p.m. Eastern Time. The purpose of the teleconference meeting is for the Commission to make recommendations related to the UNESCO university twinning and networking program (UNITWIN/UNESCO Chairs Program). The U.S. National Commission for UNESCO was asked to provide recommendations on a proposal received to establish a UNESCO Chair. For more information about the Program see http://www.state.gov/p/io/unesco/c14222.htm. This meeting notice may provide less than 15 days calendar notice due to an external UNESCO deadline of April 30th for member states' submissions. The call will also be an opportunity to provide an update on recent and upcoming Commission and UNESCO activities. The Commission will accept brief oral comments during a portion of this conference call. This public comment period will last up to 15 minutes, and comments are limited to two minutes per person. Members of the public who wish to present oral comments or to listen to the conference call must make arrangements with the Executive Secretariat of the National Commission by April 22, 2008. For more information or to arrange to participate in the teleconference meeting, contact Alex Zemek, Deputy Executive Director of the U.S. National Commission for UNESCO, Washington, DC 20037. Telephone: (202) 663-0026; Fax: (202) 663-0035; E-mail: DCUNESCO@state.gov.

Dated: April 7, 2008.
Alex Zemek,
U.S. National Commission for UNESCO, Department of State.

[FR Doc. E8-8154 Filed 4-14-08; 8:45 am]

BILLING CODE 4710-19-P